DEPARTMENT OF AGRICULTURE

Forest Service

Notice of New Fee Site; Federal Lands Recreation Enhancement Act

AGENCY: Ozark-St. Francis National Forest in Arkansas, USDA Forest Service.

ACTION: Notice of new recreation fees.

SUMMARY: The Ozark-St. Francis National Forests in Arkansas, will be implementing new fees at Richland Creek Campground at $10 per night for a single site or $20 per night for a double site. This site has had additional amenities added to improve services and experiences that include new grills, tables, lantern poles, tent pads, parking spaces, new toilet, water system upgrades and trashcans. In addition, most sites are now fully accessible for wheelchairs. Fees are assessed based on the level of amenities and services provided, cost of operation and maintenance, market assessment and public comment. Funds from fees will be used for the continued operation and maintenance as well as improvements to the facilities within the campground.

DATES: Implementation of the new fees will occur no sooner than 180 days from date of publication in the Federal Register.

Public comment for this new fee proposal was completed on July 27, 2018. The Southern Region Recreation Resource Advisory Committee reviewed and offered recommendations on this new fee on August 27, 2018 respectively. The Region 8 Regional Forester decided to implement this new fee on October 26, 2018.

ADDRESSES: Cherie Hamilton, Forest Supervisor, Ozark-St. Francis National Forest, 605 West Main St., Russellville, Arkansas 72801.

FOR FURTHER INFORMATION CONTACT: Robert Duggan, Recreation Program Manager, 479-964-7238.

SUPPLEMENTARY INFORMATION: This site will honor a 50% discount for holders of the Interagency Senior and Access passes. The Federal Recreation Lands Enhancement Act (Title VII, P.L. 108-447) directed the Secretary of Agriculture to publish a six month advance notice in the Federal Register whenever new recreation fee areas are established.

Dated: November 16, 2018.
Allen Rowley,
Acting Associate Deputy Chief, National Forest System.

[FR Doc. 2018-27353 Filed 12-17-18; 8:45 am]

BILLING CODE 3411-15-P